DEPARTMENT OF COMMERCE

Foreign-Trade Zones Board

[B-51-2017 and B-52-2017]

Foreign-Trade Zone (FTZ) 196—Fort Worth, Texas; Foreign-Trade Zone (FTZ) 247—Erie, Pennsylvania; Authorization of Production Activity; General Electric Transportation; (Underground Mining Vehicles); Fort Worth and Haslet, Texas; Erie and Grove City, Pennsylvania

On July 19, 2017, General Electric Transportation submitted a notification of proposed production activity to the FTZ Board for its facilities in Fort Worth and Haslet, Texas within Subzone 196B (Doc. B-51-2017) and Erie and Grove City, Pennsylvania, within Subzones 247A and 247B (Doc. B-52-2017).

The notification was processed in accordance with the regulations of the FTZ Board (15 CFR part 400), including notice in the Federal Register inviting public comment (82 FR 37192, August 9, 2017). On November 16, 2017, the applicant was notified of the FTZ Board's decision that no further review of the activity is warranted at this time. The production activity described in the notification was authorized, subject to the FTZ Act and the FTZ Board's regulations, including Section 400.14.

Dated: November 17, 2017.
Andrew McGilvray,
Executive Secretary.

[FR Doc. 2017-25279 Filed 11-21-17; 8:45 am]

BILLING CODE 3510-DS-P